INTERNATIONAL TRADE COMMISSION

[Investigation Nos. 701-TA-539 and 731-TA-1280-1282 (Final)]

Heavy Walled Rectangular Welded Carbon Steel Pipes and Tubes From Korea, Mexico, and Turkey; Determinations

On the basis of the record ¹ developed in the subject investigations, the United States International Trade Commission (“Commission”) determines, pursuant to the Tariff Act of 1930 (“the Act”), that an industry in the United States is materially injured by reason of imports of heavy walled rectangular welded carbon steel pipes and tubes from Korea, Mexico, and Turkey, provided for in subheadings 7306.61.10 and 7316.61.30 of the Harmonized Tariff Schedule of the United States, that have been found by the Department of Commerce (“Commerce”) to be sold in the United States at less than fair value (“LTFV”), and that have been found by Commerce to be subsidized by the government of Turkey.²

¹ The record is defined in sec. 207.2(f) of the Commission's Rules of Practice and Procedure (19 CFR 207.2(f)).

² Commissioners Meredith M. Broadbent and F. Scott Kieff dissenting.

Background

The Commission, pursuant to sections 705(b) and 735(b) of the Act (19 U.S.C. 1671d(b) and 19 U.S.C. 1673d(b)), instituted these investigations effective July 21, 2015, following receipt of a petition filed with the Commission and Commerce by Atlas Tube, a division of Zekelman Industries, Inc. (Chicago, Illinois); Bull Moose Tube Company (Chesterfield, Missouri); EXLTUBE (North Kansas City, Missouri); Hannibal Industries, Inc. (Los Angeles, California); Independence Tube Corporation (Chicago, Illinois); Maruichi American Corporation (Santa Fe Springs, California); Searing Industries (Rancho Cucamonga, California); Southland Tube (Birmingham, Alabama); and Vest, Inc. (Los Angeles, California). The final phase of the investigations was scheduled by the Commission following notification of preliminary determinations by Commerce that imports of heavy walled rectangular welded carbon steel pipes and tubes from Turkey were subsidized within the meaning of section 703(b) of the Act (19 U.S.C. 1671b(b)) and that imports of heavy walled rectangular welded carbon steel pipes and tubes from Korea, Mexico, and Turkey were sold at LTFV within the meaning of 733(b) of the Act (19 U.S.C. 1673b(b)). Notice of the scheduling of the final phase of the Commission's investigations and of a public hearing to be held in connection therewith was given by posting copies of the notice in the Office of the Secretary, U.S. International Trade Commission, Washington, DC, and by publishing the notice in the Federal Register on March 15, 2016 (81 FR 13820). The hearing was held in Washington, DC, on July 14, 2016, and all persons who requested the opportunity were permitted to appear in person or by counsel.

The Commission made these determinations pursuant to sections 705(b) and 735(b) of the Act (19 U.S.C. 1671d(b) and 19 U.S.C. 1673d(b)). It completed and filed its determinations in these investigations on September 6, 2016. The views of the Commission are contained in USITC Publication 4633 (September 2016), entitled Heavy Walled Rectangular Welded Carbon Steel Pipes and Tubes from Korea, Mexico, and Turkey: Investigation Nos. 701-TA-539 and 731-TA-1280-1282 (Final).

By order of the Commission.
Issued: September 6, 2016.
Lisa R. Barton,
Secretary to the Commission.

[FR Doc. 2016-21811 Filed 9-9-16; 8:45 am]

BILLING CODE 7020-02-P